DEPARTMENT OF VETERANS AFFAIRS

[OMB Control No. 2900-0781]

Agency Information Collection Activity: Disability Benefits Questionnaire (Group 4)

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before July 5, 2019.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov Please refer to “OMB Control No. 2900-0781” in any correspondence. During the comment period, comments may be viewed online through FDMS.

FOR FURTHER INFORMATION CONTACT: Danny S. Green at (202) 421-1354.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Disability Benefits Questionnaire (Group 4).

OMB Control Number: 2900-0781.

Type of Review: Extension of a currently approved collection.

Abstract: The VA Form 21-0960 series will be used to gather necessary information from a claimant's treating physician regarding the results of medical examinations. VA will gather medical information related to the claimant that is necessary to adjudicate the claim for VA disability benefits. The Disability Benefits Questionnaire title will include the name of the specific disability for which it will gather information. The Disability Benefit Questionnaire Group 4 includes the following forms: VA Form 21-0960C-3, Cranial Nerve Conditions Disability Benefits Questionnaire, will gather information related to the claimant's diagnosis of any cranial nerve condition; VA Form 21-0960C-6, Narcolepsy Disability Benefits Questionnaire, will gather information related to the claimant's diagnosis of narcolepsy; VA Form 21-0960C-7, Fibromyalgia Disability Benefits Questionnaire, will gather information related to the claimant's diagnosis of fibromyalgia; VA Form 21-0960C-11, Seizure Disorders (Epilepsy) Disability Benefits Questionnaire, will gather information related to the claimant's diagnosis of any seizure disorder including epilepsy; VA Form 21-0960D-1, Oral and Dental Conditions Including Mouth, Lips and Tongue (Other than Temporomandibular Joint Conditions) Disability Benefits Questionnaire, will gather information related to the claimant's diagnosis of any oral or dental conditions; VA Form 21-0960E-2, Endocrine Diseases (Other than Thyroid, Parathyroid, or Diabetes Mellitus) Disability Benefits Questionnaire, will gather information related to the claimant's diagnosis of any endocrine disease including cushings and acromegaly, however it excludes diabetes; VA Form 21-0960E-3, Thyroid and Parathyroid Conditions Disability Benefits Questionnaire, will gather information related to the claimant's diagnosis of any thyroid or parathyroid condition; VA Form 21-0960H-1, Hernias (Including Abdominal, Inguinal, and Femoral hernias) Disability Benefits Questionnaire, will gather information related to the claimant's diagnosis of abdominal, inguinal, or femoral hernias; VA Form 21-0960I-2, HIV-Related Illness Disability Benefits Questionnaire, will gather information related to the claimant's diagnosis of any HIV-related illness; VA Form 21-0960I-3, Infectious Diseases Other Than HIV-Related Illness, Chronic Fatigue Syndrome, and Tuberculosis Disability Benefits Questionnaire, will gather information related to the claimant's diagnosis of any infectious diseases; VA Form 21-0960I-4, Systemic Lupus Erythematosus (SLE) and other Autoimmune Diseases Disability Benefits Questionnaire, will gather information related to the claimant's diagnosis of lupus or other immune disorders; VA Form 21-0960I-5, Nutritional Deficiencies Disability Benefits Questionnaire, will gather information related to the claimant's diagnosis of nutritional deficiencies; VA Form 21-0960J-4, Urinary Tract (including Bladder & Urethra) Conditions (excluding Male Reproductive System) Disability Benefits Questionnaire, will gather information related to the claimant's diagnosis of any urinary tract or bladder condition; VA Form 21-0960L-1, Respiratory Conditions (Other than Tuberculosis & Sleep Apnea) Disability Benefits Questionnaire, will gather information related to the claimant's diagnosis of any respiratory condition; VA Form 21-0960N-3, Loss of Sense of Smell and/or Taste Disability Benefits Questionnaire, will gather information related to the claimant's loss of sense of smell and taste; VA Form 21-0960N-4, Sinusitis/Rhinitis and Other Conditions of the Nose, Throat, Larynx, and Pharynx Disability Benefits Questionnaire, will gather information related to the claimant's diagnosis of sinusitis/rhinitis or other diseases of the nose, throat, larynx, or pharynx; VA Form 21-0960Q-1, Chronic Fatigue Syndrome Disability Benefits Questionnaire, will gather information related to the claimant's diagnosis of chronic fatigue syndrome.

Affected Public: Individuals and households.

Estimated Annual Burden: 53,750 hours.

Estimated Average Burden per Respondent: 18.5 minutes per form (17 forms).

Frequency of Response: One-time.

Estimated Number of Respondents: 160,000.

By direction of the Secretary.
Danny S. Green,
VA Interim Clearance Officer, Office of Quality, Performance and Risk, Department of Veterans Affairs.

[FR Doc. 2019-09203 Filed 5-3-19; 8:45 am]

BILLING CODE 8320-01-P